ENVIRONMENTAL PROTECTION AGENCY

40 CFR Part 300

[EPA-HQ-SFUND-1990-0011; FRL-9911-80-Region 4]

National Oil and Hazardous Substances Pollution Contingency Plan; National Priorities List: Deletion of the B&B Chemical Co., Inc.

AGENCY: Environmental Protection Agency.

ACTION: Direct final rule.

SUMMARY: The Environmental Protection Agency (EPA) Region 4 is publishing this direct final Notice of Deletion for the B&B Chemical Co., Inc. Superfund Site (Site), located in Miami-Dade County, Florida, from the National Priorities List (NPL) and requests public comments on this action. The NPL, promulgated pursuant to section 105 of the Comprehensive Environmental Response, Compensation, and Liability Act (CERCLA) of 1980, as amended, is an appendix of the National Oil and Hazardous Substances Pollution Contingency Plan (NCP). The EPA and the State of Florida, through the Florida Department of Environmental Protection (FDEP), have determined that all appropriate response actions under CERCLA, other than operation, maintenance, and five year reviews, have been completed. However, this deletion does not preclude future actions under Superfund.

DATES: This direct final deletion is effective August 5, 2014 unless EPA receives adverse comments by July 7, 2014. If adverse comments are received, EPA will publish a timely withdrawal of the direct final deletion in the Federal Register informing the public that the deletion will not take effect.

ADDRESSES: Submit your comments, identified by Docket ID No., EPA-HQ-SFUND-1990-0011, by one of the following methods:

• www.regulations.gov Follow the on-line instructions for submitting comments.

• Email: johnston.shelby@epa.gov.

• Fax: (404) 562-8287, Attention: Shelby Johnston.

• Mail: Shelby Johnston, Remedial Project Manager, Superfund Remedial Section D, Superfund Remedial Branch, Superfund Division, U.S. Environmental Protection Agency, Region 4, 61 Forsyth Street SW., Atlanta, Georgia 30303-8960.

Hand Delivery: U.S. Environmental Protection Agency, Region 4, 61 Forsyth Street SW., Atlanta, Georgia 30303-8960. Such deliveries are only accepted during the Docket's normal hours of operation and special arrangements should be made for deliveries of boxed information.

Instructions: Direct your comments to Docket ID no. EPA-HQ-SFUND-1990-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at: U.S. EPA Record Center, attn: Mr. Ronald Saskowski, Atlanta Federal Center, 61 Forsyth Street SW., Atlanta, Georgia 30303-8960, Phone: (404) 562-8862, Hours 8 a.m.-4 p.m., Monday through Friday by appointment only; or, John F. Kennedy Library, 190 West 49th Street, Hialeah, Florida 33012, Phone: 305-821-2700, Hours 12 p.m.-8 p.m., Monday through Thursday, 9 a.m.-5 p.m. Saturday.

FOR FURTHER INFORMATION CONTACT: Shelby Johnston, Remedial Project Manager, Superfund Remedial Section D, Superfund Remedial Branch, Superfund Division, U.S. Environmental Protection Agency, Region 4, 61 Forsyth Street SW., Atlanta, Georgia 30303-8960, 404-562-8287, email: johnston.shelby@epa.gov.

SUPPLEMENTARY INFORMATION:

Table of Contents

I. Introduction

II. NPL Deletion Criteria

III. Deletion Procedures

IV. Basis for Site Deletion

V. Deletion Action

I. Introduction

EPA Region 4 is publishing this direct final Notice of Deletion of the B&B Chemical Co., Inc. Superfund Site from the NPL. The NPL constitutes Appendix B of 40 CFR part 300 which is the NCP, which EPA promulgated pursuant to section 105 of the CERCLA of 1980, as amended. EPA maintains the NPL as the list of sites that appear to present a significant risk to public health, welfare, or the environment. Sites on the NPL may be the subject of remedial actions financed by the Hazardous Substance Superfund (Fund). As described in the Section 300.425(e)(3) of the NCP, sites deleted from the NPL remain eligible for Fund-financed remedial actions if conditions at a deleted site warrant such actions.

Because EPA considers this action to be noncontroversial and routine, this action will be effective August 5, 2014 unless EPA receives adverse comments by July 7, 2014. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria to delete sites from the NPL. Section III discusses procedures that EPA is using for this action. Section IV discusses the B&B Chemicals Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the Hazard Ranking System.

III. Deletion Procedures

The following procedures apply to deletion of the site:

(1) EPA consulted with the State of Florida before developing this direct final Notice of Deletion and the Notice of Intent to Delete co-published today in the “Proposed Rules” section of the Federal Register

(2) EPA has provided the state 30 working days for review of this notice and the parallel Notice of Intent to Delete prior to their publication today, and the state, through the FDEP, has concurred on the deletion of the site from the NPL.

(3) Concurrently with the publication of this direct final Notice of Deletion, a notice of the availability of the parallel Notice of Intent to Delete is being published in a major local newspaper, Miami Today. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

B & B Chemical Co., Inc. Superfund Site, (EPA ID: FLD004574190) is located at 875 West 20th Street, Hialeah, Florida 33010. The B&B Chemical Co., Inc. Superfund Site (the Site) is still operational and occupies 5 acres in the industrial area of Hialeah, Miami-Dade County, Florida. B&B Tritech, Inc., formerly B&B Chemical Co., Inc. (B&B) manufactured industrial cleaning compounds at the Site since 1958. The Site is bounded to the north by Highway 934 (Hialeah Expressway), to the east by West 8th Avenue, to the south by West 20th Street, and to the west by the Dade County Metrorail Okeechobee Station and parking garage. Chemicals and products used by the facility include a variety of solvents, polishes, detergents, oxidizing agents, corrosive inhibitors and metal cleaners. In the mid-1970s, inspectors from the Miami-Dade County Department of Environmental Resource Management (DERM) documented wastewater residues in soakage pits at the Site, and subsequently issued a Cease and Desist Order related to wastewater discharge to the soakage pits. In May 1976, B&B put a wastewater pre-treatment system into operation. During a 1979 area-wide ground water study conducted for DERM, two samples were collected from irrigation wells located on the Site. Analytical data from these samples indicated the presence of trans-1,2-dichloroethlyene, tetrachloroethylene, chlorobenzene, 1,1-dichloroethane, vinyl chloride and trichloroethylene. In September 1981, construction workers installing a potable water line immediately south of the B&B site experienced skin irritation. Analytical data from a ground water sample collected in the ditch indicated the presence of phenol, trichoroethylene, tetrachloroethlyene, vinyl chloride, trans-1,2 dichloroethlyene and cis-1,2 dichloroethylene. In June 1982, during the construction of the Metrorail track immediately south of the Site, workers also complained of skin bums while working in the trenches.

In August 1985, at the request of DERM, EPA conducted an investigation at the Site and found benzene, chlorobenzene, vinyl chloride and chromium in the ground water. Results of the 1986 EPA-funded investigation were used to compute a Hazard Ranking System (HRS) score for ground water at the Site. The HRS score exceeded the threshold at which sites would normally be placed on the National Priorities List (NPL). The primary contaminants of concern at the Site include, but are not limited to, benzene, chlorobenzene, vinyl chloride and chromium in the ground water. The Site was proposed for the NPL June 24, 1988 (53 FR 23988) and finalized on the NPL August 30, 1990 (55 FR 35502).

Remedial Investigation, Feasibility Study (RI/FS)

In 1987, B&B completed a Remedial Investigation/Feasibility Study (RI/FS) to determine the type and extent of contamination at the Site. Starting in August 1988, B&B operated a ground-water treatment system on site, in accordance with a Court Order of Stipulated Settlement with DERM. The treatment system operated, with some periods of interruption, until 1993. The B&B RI/FS was determined inadequate based on NCP requirements and thus EPA conducted another investigation. The EPA Remedial Investigation (RI) and Feasibility Study (FS) were conducted between September 13, 1989 and September 12, 1994.

Analytical results of the RI sampling identified at the Site were constituents commonly associated with chemical manufacturing operations that posed a threat to human health and the environment. The primary contaminants of concern (COCs) identified in the 1994 RI/FS included benzene, chlorobenzene, chromium and vinyl chloride in ground water and were selected based on exceedences of State of Florida and federal MCLs for contaminants in the 1992 to 1994 ground-water monitoring period. The feasibility study at the site was focused on the validity of monitored natural attenuation for the ground-water remediation. Ground-water monitoring results revealed a downward trend in the contaminant concentrations which supported the natural attenuation as a viable remedy.

Selected Remedy

EPA's Record of Decision (ROD) was signed on September 12, 1994, and the State of Florida concurred with the selected remedy. The selected alternative included the following:

• Natural attenuation of ground-water contaminants;

• Ground-water monitoring to verify natural attenuation;

• Implementation of institutional controls in the form of a notification agreement between EPA and the landowner to ensure continued integrity of the asphalt cover;

The remedial objective for the B&B Chemical Co., Inc. site was to eliminate potential health hazards due to the impact of vinyl chloride, benzene, chromium and chlorobenzene in the ground water.

Remedy Implementation

The remedy involves the natural attenuation of groundwater contaminants to levels below MCLs. Decreasing trends of groundwater contaminant concentrations were observed during the 1992 through 1994 monitoring period. These trends gave evidence that natural attenuation would be protective of human health and the environment.

Ground-water monitoring was conducted primarily to verify that natural attenuation of ground-water contamination is occurring. Monitoring consisted of semi-annual sampling of eight existing wells (MWT-31, MWS-06, MWD-07, CDM-02, CDM-03, MWF-27, MWD-29 and MWM-29), selected because of their historical exceedences of MCLs. Each well was sampled semi-annually until the groundwater contaminants decreased to levels below maximum contaminant levels (MCLs) for two consecutive rounds of sampling. Once this occurred, the wells were to be omitted from further semi-annual sampling events. The ROD required the final round of ground-water sampling to include all the monitoring wells at the site and that all contaminants of concern are below MCLs as requested by FDEP at the time the ROD was signed. Ground-water samples were to be analyzed for the analytes on EPA's target compound list, excluding semivolatile compounds, as these compounds were not observed above MCLs during the RI/FS.

On July 17, 2013 a restrictive covenant was filed to comply with the remedy component. The restrictive covenant states that the entire property is restricted to future use of commercial or industrial, that the potential for vapor intrusion into any newly constructed buildings is evaluated and properly addressed before construction, and that maintenance and inspection of all paved areas and building foundations in the areas for which the soil contamination levels did not meet the criteria for unlimited use is required yearly. All institutional controls have been implemented.

Cleanup Goals

Post-ROD ground-water sampling was initiated in December 1995. Sampling continued on a semi-annual basis until 2007. After reviewing the results of the 2007 ground-water sampling, FDEP and EPA determined that the cleanup goals specified in the 1994 ROD had been met and that there was no need to continue with regular, semi-annual sampling of the monitoring wells. Further, upon consultation with FDEP, EPA issued the 2009 Explanation of Significant Difference (ESD) that removed the requirement for a final round of ground-water sampling.

Explanation of Significant Difference

The selected remedy was revised by the June 2009 ESD. The 2009 ESD removed the 1994 ROD requirement for a final round of ground-water sampling, this requirement was removed because performance standards were met for all monitoring wells in two consecutive rounds of sampling and FDEP concurred that the additional sampling was not necessary. In addition the 2009 ESD further outlined the requirements for the institutional controls to ensure the remedy remains protective.

The 2009 ESD required restrictive covenants be placed on the site properties to:

• Ensure that the integrity of existing impermeable surfaces is maintained.

• Ensure that future use of the property remains commercial or industrial.

• Ensure that the potential for vapor intrusion into any newly constructed buildings is evaluated and properly addressed.

By maintaining the integrity of the existing impermeable surfaces and requiring the evaluation of vapor intrusion prior to and after construction of any new buildings on site the long term protectiveness can be sustained.

Five-Year Reviews

The first five-year review was completed on October 24, 2001 and the second was signed on April 26, 2007. These reviews concluded that the selected remedy remains protective of human health and the environment.

The third statutory five-year review was signed on August 9, 2012 pursuant to EPA's Comprehensive Five-Year Review Guidance (OSWER No. 9355.7-03B-P, June 2001). The five-year review concluded that remedial actions at the B&B Chemical Co., Inc. Superfund Site are protective, in the short-term, of human health and the environment, and exposure pathways that could result in unacceptable risks are being controlled in the long term by the required restrictive covenants. On July 17, 2013 a restrictive covenant was filed to restrict the Site in the Clerk of Courts, Recorder's Office, Miami-Dade County, Florida, at Deed Book 438, pages 341-345. All institutional controls have been implemented.

Because hazardous materials remain at the Site below the pavement at levels above those that allow for unlimited use and unrestricted exposure, Section 121 of CERCLA requires ongoing statutory review to be conducted no less than every five years from the start of remedial actions. The next five-year review will be completed by August 2017.

Community Involvement

Throughout the removal and remedial process, EPA has kept the public informed of the activities being conducted at the Site by way of public meetings, progress fact sheets, and the announcement through local newspaper advertisement on the availability of documents such as the RI/FS, Risk Assessment, ROD, Proposed Plan, ESD and five-year reviews.

Public participation activities have been satisfied as required in CERCLA section 113(k), 42 U.S.C. 9613(k), and CERCLA section 117, 42 U.S.C. 9617. Documents in the deletion docket which EPA relied on for recommendation of the deletion from the NPL are available to the public in the information repositories identified above.

Determination That the Site Meets the Criteria for Deletion From the NCP

This Site meets all the site completion requirements as specified in Office of Solid Waste and Emergency Response (OSWER) Directive 9320.22, Close Out Procedures for National Priorities List Sites. Specifically, confirmatory ground-water sampling verifies that the Site has achieved the ROD cleanup standards, and that all cleanup actions specified in the ROD and ESD have been implemented.

V. Deletion Action

The EPA, with concurrence of the State of Florida through the FDEP, has determined that all appropriate response actions under CERCLA, other than maintenance of the pavement and five-year reviews have been completed. Therefore, EPA is deleting the Site from the NPL.

Because EPA considers this action to be noncontroversial and routine, EPA is taking it without prior publication. This action will be effective August 5, 2014 unless EPA receives adverse comments by July 7, 2014. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: April 15, 2014.
A. Stanley Meiburg,
Acting Regional Administrator, Region 4.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing the entry for “FL”, “B&B Chemical Co., Inc”, “Hialeah”.

[FR Doc. 2014-13210 Filed 6-5-14; 8:45 am]

BILLING CODE 6560-50-P